DEPARTMENT OF TRANSPORTATION

Federal Highway Administration

Notice of Availability; Washington, DC

AGENCY: Federal Highway Administration (FHWA), DOT.

ACTION: Notice of Availability.

SUMMARY: The FHWA is issuing this notice to advise the public of the availability of the Final Section 4(f) Evaluation for the proposed roadway improvements proposed in conjunction with the consolidation of the Department of Homeland Security Headquarters at St. Elizabeths in Southeast Washington, DC in accordance with 49 U.S.C. 303.

FOR FURTHER INFORMATION CONTACT: Jack Van Dop, Senior Technical Specialist, Federal Highway Administration, 21400 Ridgetop Circle, Sterling, VA 20166, Telephone 703-404-6282 or jack.j.vandop@fhwa.dot.gov.

SUPPLEMENTARY INFORMATION:

Electronic Access to this Notice

An electronic copy of this document (notice) may be downloaded by using a computer, modem and suitable communications software from Government Printing Office's Electronic Bulletin Board Service at (202) 512-1661. Internet users may reach the Office of the Federal Register's home page at: http://www.nara.gov/fedreg and the Government Printing Office's Web site at: http://www.access.gpo.gov/nara.

Background

The FHWA has cooperated with the General Services Administration (GSA) in the preparation of a Final Environmental Impact Statement (EIS) for the consolidation of the Department of Homeland Security Headquarters at St. Elizabeths, Southeast Washington, DC. The EIS was prepared by the General Services Administration, National Capital Region. The Draft EIS contained a Draft Section 4(f) Evaluation and was released in late 2007. This Final Section 4(f) Evaluation presents an assessment of the permanent and temporary impacts to the National Park Service (NPS) land known as Shepherd Parkway and the GSA property of the St. Elizabeths West Campus, resulting from improvements to the Malcolm X Avenue/I-295 interchange and construction of a related access road between Firth Sterling Avenue and Malcolm X Avenue. Transportation improvements are needed to support the redevelopment of the St. Elizabeths West Campus and construction and operation of the DHS Headquarters. The Final Section 4(f) Evaluation also provides a description of the Section 4(f) resources that would be affected, consideration of total Section 4(f) resources avoidance alternatives, and identification of potential measures to minimize harm to the 4(f) resources.

Availability

The Section 4(f) Evaluation is available for review until January 23, 2009. A copy of the Section 4(f) Evaluation for which this notice is being made, is posted at http://www.efl.fhwa.gov/projects-environment.aspx and http://www.stelizabethswestcampus.com. Hard copies of this evaluation can be viewed at the following locations:

Anacostia Neighborhood Library, 1800 Good Hope Road, SE., at 18th Street, SE., Washington, DC 20020.

Francis A. Gregory, 3660 Alabama Avenue, SE., at 37th Street, SE., Washington, DC 20020.

Parkland-Turner Community Library, 1700 Alabama Avenue, SE., at Stanton Road, SE.,Washington, DC 20020.

ANC 8C, 3125 MLK Jr., Avenue, SE., Washington, DC 20020.

Washington Highlands, Neighborhood Library, 115 Atlantic Street, SW., at South Capitol Street, SW., Washington, DC 20032.

UPO Ralph Waldo `Petey Greene', Community Service Center, 2907 Martin Luther King, Jr., Ave., SE., Washington, DC 20032.

National Capitol Planning Commission, 401 9th Street, NW., North Lobby, Suite 500, Washington, DC 20004.

Federal Highway Administration, 21400 Ridgetop Circle, Sterling, VA 20166.

(Catalog of Federal Domestic Assistance Program Number 20.205, Highway Planning and Construction. The regulations implementing Executive Order 12372 regarding intergovernmental consultation on Federal programs and activities apply to this proposed action.)

Authority: 23 U.S.C. 315; 49 CFR 1.48.

Dated: December 19, 2008.
Karen A. Schmidt,
Director, Program Administration.

[FR Doc. E8-30773 Filed 12-24-08; 8:45 am]

BILLING CODE 4910-22-P